DEPARTMENT OF COMMERCE

National Oceanic and Atmospheric Administration

RIN 0648-XD592

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks are subject to overfishing or are in an overfished condition: Gulf of Mexico Greater Amberjack is subject to overfishing and continues to be in an overfished condition; Gulf of Mexico Gray Triggerfish is subject to overfishing but is not in an overfished condition; Puerto Rico Scups and Porgies is subject to overfishing; Puerto Rico Wrasses is subject to overfishing; and Gulf of Maine cod continues to be subject to overfishing and in an overfished condition. In addition, Pacific Bluefin Tuna, which is jointly managed by the Western Pacific Fisheries Management Council and the Pacific Fisheries Management Council, continues to be subject to overfishing and continues to be in an overfished condition.

NMFS, on behalf of the Secretary, notifies the appropriate fishery management council (Council) whenever it determines that overfishing is occurring, a stock is in an overfished condition, a stock is approaching an overfished condition, or when a rebuilding plan has not resulted in adequate progress toward ending overfishing and rebuilding affected fish stocks.

FOR FURTHER INFORMATION CONTACT: Regina Spallone, (301) 427-8568.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, must notify Councils whenever it determines that a stock or stock complex is overfished or approaching an overfished condition; or if an existing rebuilding plan has not ended overfishing or resulted in adequate rebuilding progress. NMFS also notifies Councils when it determines a stock or stock complex is subject to overfishing. Section 304(e)(2) further requires NMFS to publish these notices in the Federal Register.

NMFS has determined that the Gulf of Mexico stocks of Greater Amberjack and Grey Triggerfish are subject to overfishing and that Greater Amberjack continues to be in an overfished condition. The Gulf of Mexico Fishery Management Council (GMFMC) has been informed that they must end overfishing on these two stocks and that they must continue to rebuild the stock of Greater Amberjack.

NMFS has also determined that Puerto Rico Scups and Porgies, as well as Puerto Rico Wrasses, are subject to overfishing. The Caribbean Fishery Management Council (CFMC) has been informed that they must end overfishing on these two stock complexes.

NMFS has also determined that Gulf of Maine Cod continues to be subject to overfishing and is in an overfished condition. The New England Fishery Management Council (NEFMC) has been informed that they must end overfishing and rebuild this stock.

In addition, NMFS has determined that the Pacific stock of Bluefin Tuna continues to be subject to overfishing and is in an overfished condition. This determination was based on an assessment conducted by the International Scientific Committee for Tuna and Tuna-like Species in the North Pacific Ocean (ISC), in conjunction with NOAA scientists. NMFS has confirmed that section 304(i) of the Magnuson-Stevens Fishery Conservation and Management Act (Magnuson-Stevens Act) applies because (1) the overfishing and overfished condition of Bluefin Tuna is due largely to excessive international fishing pressure, and (2) there are no management measures (or efficiency measures) to end overfishing under an international agreement to which the U.S. is a party. NMFS has informed the Western Pacific Fishery Management Council and the Pacific Fishery Management Council of their obligations for international and domestic management under Magnuson-Stevens Act sections 304(i) and 304(i)(2) to address international and domestic impacts, respectively. The Councils must develop domestic regulations to address the relative impact of the domestic fishing fleet on the stock, and develop recommendations to the Secretary of State and Congress for international actions to end overfishing and rebuild Pacific Bluefin Tuna.

Dated: March 4, 2015.
Alan D. Risenhoover,
Director, Office of Sustainable Fisheries, National Marine Fisheries Service.

[FR Doc. 2015-05445 Filed 3-9-15; 8:45 am]

BILLING CODE 3510-22-P